DEPARTMENT OF THE TREASURY

Alcohol and Tobacco Tax and Trade Bureau

27 CFR Part 9

[Docket No. TTB-2018-0008; Notice No. 177]

RIN 1513-AC40

Proposed Establishment of the West Sonoma Coast Viticultural Area

AGENCY: Alcohol and Tobacco Tax and Trade Bureau, Treasury.

ACTION: Notice of proposed rulemaking.

SUMMARY: The Alcohol and Tobacco Tax and Trade Bureau (TTB) proposes to establish the 141,846-acre “West Sonoma Coast” viticultural area in Sonoma County, California. The proposed viticultural area lies entirely within the established Sonoma Coast and North Coast viticultural areas and contains the established Fort Ross-Seaview viticultural area. TTB designates viticultural areas to allow vintners to better describe the origin of their wines and to allow consumers to better identify wines they may purchase. TTB invites comments on this proposed addition to its regulations.

DATES: Comments must be received by January 7, 2019.

ADDRESSES: Please send your comments on this notice to one of the following addresses:

• Internet: https://www.regulations.gov (via the online comment form for this notice as posted within Docket No. TTB-2018-0008 at “Regulations.gov,” the Federal e-rulemaking portal);

• U.S. Mail: Director, Regulations and Rulings Division, Alcohol and Tobacco Tax and Trade Bureau, 1310 G Street NW, Box 12, Washington, DC 20005; or

• Hand delivery/courier in lieu of mail: Alcohol and Tobacco Tax and Trade Bureau, 1310 G Street NW, Suite 400, Washington, DC 20005.

See the Public Participation section of this notice for specific instructions and requirements for submitting comments, and for information on how to request a public hearing or view or obtain copies of the petition and supporting materials.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01, dated December 7, 2013, (superseding Treasury Order 120-01, dated January 24, 2003), to the TTB Administrator to perform the functions and duties in the administration and enforcement of these provisions.

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features, as described in part 9 of the regulations, and a name and a delineated boundary, as established in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA. Section 9.12 of the TTB regulations (27 CFR 9.12) prescribes the standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA;

• The appropriate United States Geological Survey (USGS) map(s) showing the location of the proposed AVA, with the boundary of the proposed AVA clearly drawn thereon; and

• A detailed narrative description of the proposed AVA boundary based on USGS map markings.

West Sonoma Coast Petition

TTB received a petition from Patrick Shabram, on behalf of the West Sonoma Coast Vintners, proposing the establishment of the “West Sonoma Coast” AVA. The proposed West Sonoma Coast AVA is located within Sonoma County, California. The proposed AVA lies entirely within the established Sonoma Coast AVA (27 CFR 9.116) and North Coast AVA (27 CFR 9.30) and entirely overlaps the smaller established Fort Ross-Seaview AVA (27 CFR 9.221). The proposed West Sonoma Coast AVA contains 141,846 acres, with approximately 47 commercially-producing vineyards covering approximately 1,028 acres distributed throughout the proposed AVA. Grape varieties planted within the proposed AVA include Pinot Noir and Chardonnay.

According to the petition, the distinguishing features of the proposed West Sonoma Coast AVA include its topography, geology, and climate. Unless otherwise noted, all information and data pertaining to the proposed AVA contained in this document are from the petition for the proposed West Sonoma Coast AVA and its supporting exhibits.

Name Evidence

The proposed West Sonoma Coast AVA is located within the western portion of Sonoma County. The petition states that Sonoma County is typically referred to in terms of “east” and “west,” and that terms such as “West County,” “West Sonoma,” and “Western Sonoma” are frequently used to describe the region that includes the proposed AVA. For example, the school district that serves the proposed AVA is the West Sonoma County Union High School District.¹ A newspaper that serves the town of Sebastopol and points west, including the region of the proposed AVA, is called the Sonoma West Times & News.² Additionally, in his book about wineries and vineyards along the Russian River, Steve Heimoff refers to residents of the area as “West Sonomans.” ³

¹ West Sonoma County Union High School District (May 7, 2018), http://wscuhsd.k12.ca.us/.

² Sonoma West Times & News (May 16, 2018), http://www.sonomawest.com/.

³ Heimoff, Steve. A Wine Journey Along the Russian River (Berkeley: University of California Press, 2005).

The petition states that although the terms “West Sonoma” and “Western Sonoma” apply to the region of the proposed AVA, both terms encompass a broader area than just the extreme coastal region covered by the proposed AVA. Therefore, the petition states that “West Sonoma Coast” is a more accurate and precise name for the proposed AVA, as this name conveys the idea that the proposed AVA is located both within the coastal region of the area known as West Sonoma and also within the western portion of the larger established Sonoma Coast AVA. The petition included several examples of the use of “West Sonoma Coast” to refer to the region of the proposed AVA. For example, a 2013 Wall Street Journal article notes, “It's only in the last 20 years or so that the West Sonoma Coast has been recognized as a superb region for Burgundian varietals of Pinot Noir and Chardonnay.” ⁴ A 2014 article in Forbes is titled “California's Edgiest Wine Region: Western Sonoma Coast.” ⁵ A 2015 article for Wine and Spirits refers to “the region unofficially known as `west [sic] Sonoma Coast'.” ⁶ Finally, the petition included a real estate listing for “West Sonoma Coast ranch land” for sale in the town of Annapolis, California, which is within the proposed West Sonoma Coast AVA.

⁴ McInerney, Jay. “West Sonoma Coast Wines Are on the Rise,” The Wall Street Journal (July 18, 2013).

⁵ Bell, Katie Kelly. “California's Edgiest Wine Region: Western Sonoma Coast,” Forbes (March 6, 2014).

⁶ Brown, Elaine Chukan. “Sonoma's Far Coast: A haven for pinot noir,” Wines and Spirits (August 31, 2015).

Boundary Evidence

The proposed West Sonoma Coast AVA encompasses the mountainous terrain along the Pacific coastline of Sonoma County. The Pacific Ocean forms the western boundary of the proposed AVA, and the shared Sonoma-Mendocino County line forms the northern boundary. The petition notes that the proposed AVA does not extend farther north because use of the term “Sonoma” does not extend into Mendocino County. The eastern boundary follows a series of elevation contours, creeks, and U.S.G.S. map section lines to separate the proposed AVA from the more inland region of Sonoma County that has lower elevations and warmer climates. The region east of the proposed AVA includes the established Russian River Valley AVA (27 CFR 9.66) and Northern Sonoma AVA (27 CFR 9.70), both of which have boundaries that are concurrent with portions of the proposed West Sonoma Coast AVA's eastern boundary. The southern boundary of the proposed West Sonoma Coast AVA is shared with the northern boundary of the Petaluma Gap AVA (27 CFR 9.261), which has generally lower elevations.

Distinguishing Features

The distinguishing features of the proposed West Sonoma Coast AVA are its topography, geology, and climate. The petition included detailed information and supporting evidence regarding the distinguishing features of only the regions to the east and south of the proposed AVA. The Pacific Ocean is to the west of the proposed AVA and cannot be used for viticultural purposes. The petition did include a broad summary of the characteristics of the region to the north of the proposed AVA. TTB is not including the information in this document because the petition did not provide evidence to support the claims. However, TTB does not consider information from that region to be necessary because the term “Sonoma” is not used to describe the region to the north of the proposed AVA, within Mendocino County. Therefore, the proposed West Sonoma Coast AVA could not extend farther north even if the distinguishing features of both regions were similar because TTB regulations require the proposed AVA name to apply to the entire proposed AVA. See 27 CFR 9.12(a)(1).

Topography

The petition states that the terrain of the proposed West Sonoma Coast is characterized by the steep, rugged mountains and ridgelines that form the Coastal Ranges, which run parallel to the coastline. Very little area within the proposed AVA contains slopes of less than 5 percent, and the summits of the coastal mountains can exceed 1,000 feet. In the coastal regions of California, elevations below 900 feet are below the fog line and are typically exposed to heavy marine fog, which can lower temperatures and impede photosynthesis. However, the petition states that within the proposed AVA, the ridgelines of the Coastal Ranges form protected areas below the fog line where the heavy marine fog does not reach and successful viticulture can occur. The petition states that examples of such protected regions within the proposed AVA include the areas around Freestone, Annapolis, and Occidental. The high elevations within the proposed AVA also allow for vineyards to be placed above the fog. The petition states that the established Fort Ross-Seaview AVA, in particular, benefits from elevations above the fog line. According to the petition, commercial viticulture would likely not occur within the proposed AVA without protection from the extreme marine influences, either in the form of elevations above the fog line or lower elevations sheltered by the ridgelines, because the cold temperatures and reduced sunlight caused by heavy marine fog would not allow grapes to ripen reliably.

By contrast, the region immediately to the east of the proposed AVA, within the established Russian River Valley AVA, lacks summits that exceed 1,000 feet. Additionally, the Russian River Valley AVA is dominated by large areas with gentler slopes, including the Santa Rosa Plain and the Green Valley that forms the established Green Valley of the Russian River Valley AVA (27 CFR 9.57). The Petaluma Gap AVA, to the south of the proposed West Sonoma Coast AVA, also has lower elevations and gentler slopes.

Geology

Much of the proposed West Sonoma Coast AVA is characterized by sedimentary rock of the Franciscan Complex, including Franciscan sandstone. Other major geological formations within the proposed AVA include the German Rancho Formation and the Gualala Formation, both of which also contain sedimentary rock. To the south of the proposed AVA, the region is dominated by the Wilson Grove Formation, which is comprised of claystone, siltstone, and fine sandstone overlaying Franciscan Formation sedimentary rock. Northeast of the proposed AVA, the Franciscan Formation is prevalent, but to the southeast, the Wilson Grove Formation is more common. Farther east, the Santa Rosa Plain is characterized by Quaternary alluvium and fluvial deposits, which are uncommon within the proposed West Sonoma Coast AVA.

The petition states that the underlying geology of a region contributes to the topography. Because the Wilson Grove Formation and alluvial deposits are more easily eroded than the geological formations of the proposed AVA, the topography to the south and east of the proposed AVA is characterized by lower elevations, rounded hills, and gentle slopes with generally deep soils. By contrast, the proposed AVA has high elevations and steep, rugged slopes with thin soils that have a high sand content. The petition states that both the thin soils and high sand content promote good drainage in vineyards, which is important to disease prevention.

Climate

Temperature: The proposed West Sonoma Coast AVA boundary begins at the Pacific coast and extends inland only a few miles. As a result, the climate of the proposed AVA is strongly influenced by the cold marine air and heavy marine fog. The petition states that much of the proposed AVA is located within the “Marine” climate zone, a category within a climate scale created by former University of California Extension farm advisors Robert Sisson and Paul Vossen during their work in Sonoma County.⁷ Sisson believed that the Marine zone was too cold for successful viticulture. However, the petition states that Sisson's climate scale did not take into account the role the coastal mountains play in creating areas below the fog line that are protected from the heaviest marine influences, the ridgelines that are above the fog line in the proposed AVA, or the advances in viticultural practices that have been made since the scale was created. The petition notes that the areas within the proposed AVA around Annapolis, Seaview, Occidental, and Freestone are examples of such protected locations within the Marine zone where successful commercial viticulture takes place.

⁷ See Vossen, Paul, Sonoma County Climatic Zones, University of California Cooperative Extension Service, Sonoma County, 1986 (This publication notes the findings of University of California Extension Farm Advisors Robert Sisson and Paul Vossen regarding the climate zones of Sonoma County, California.).

The petition states that although the proposed West Sonoma Coast AVA contains ridgelines above the fog line as well as areas at lower elevations that are sheltered from the heaviest marine fog and air, the marine influence is still strong enough to affect the climate within the proposed AVA. The petition included growing degree day (GDD) accumulations for a location in Occidental, which is within the proposed AVA, and a location in Windsor, which is within the established Russian River Valley AVA and also within the eastern portion of the established Sonoma Coast AVA. The data shows that the location within the proposed AVA accumulates fewer GDDs than the location to the east of the proposed AVA.

Table 1—Growing Degree Day Accumulations
Location | Winkler method ⁸: 2011 | Winkler method ⁸: 2012 | Winkler method ⁸: 2013 | Winkler method ⁸: 2014 | Daily method ⁹: 2011 | Daily method ⁹: 2012 | Daily method ⁹: 2013 | Daily method ⁹: 2014 ¹⁰
Windsor | 1,860 | 2,271 | 2,466 | 2,628 | 1,918 | 2,331 | 2,513 | 2,685
Occidental | 1,761 | 2,024 | 2,070 | 2,358 | 1,872 | 1,991 | 2,045 | 2,411

The lower GDD accumulations reflect the lower daytime temperatures within the proposed AVA. The petition included a graph showing the average monthly maximum temperatures during the growing seasons from 2010 to 2014 for locations in Occidental, which is within the proposed AVA, and within Windsor and Santa Rosa, which are east of the proposed AVA and also within the Sonoma Coast AVA and the Russian River Valley AVA. The graph shows that temperatures were highest in Windsor, ranging from approximately 79 degrees F to approximately 108 degrees F. In Santa Rosa, the temperature range was almost identical to the range for Windsor. By contrast, maximum temperatures in Occidental did not exceed 100 degrees F and ranged from approximately 71 degrees F to approximately 98 degrees F.

⁸ A.J. Winkler et al., General Viticulture 60-71 (2nd. Ed. 1974). The Winkler method of calculating GDDs utilizes the monthly average temperature above 50 degrees Fahrenheit (the minimum temperature required for grapevine growth) multiplied by the number of days in the month during the growing season (April 1 through October 31).

⁹ This method of calculating GDDs utilizes the sum of daily average temperatures above 50 degrees F during the growing season. See Washington State University, Growing Degree Days (July 23, 2018), http://wine.wsu.edu/extension/weather/growing-degree-days/.

¹⁰ Data is incomplete for a 17-day period in September and October 2014 at the Occidental station. Daily GDD accumulations during these days are based on an average of temperatures two weeks prior and two weeks following this period.

The petition states that, in spite of the heavy marine influence, the proposed West Sonoma Coast AVA generally has warmer nocturnal temperatures than the regions to the east. According to the petition, cool air drains off of the mountains of the proposed AVA at night and settles in the lower elevations to the east, resulting in cooler nighttime temperatures to the east. The petition included a graph showing the monthly low temperatures from 2012 to 2014 for locations in Occidental, Windsor, and Santa Rosa. The graph shows that monthly low temperatures within Occidental, in the proposed West Sonoma Coast AVA, range from approximately 37 degrees F to approximately 47 degrees F. By contrast, at the Windsor station to the east of the proposed AVA, temperatures range from approximately 31 degrees F to approximately 43 degrees F. At the Santa Rosa station, also to the east of the proposed AVA and at lower elevations than both the Occidental and Windsor stations, temperatures range from approximately 28 degrees F to approximately 44 degrees F. The petition states that, when compared to the region to the east, the proposed AVA has more nights with temperatures that are warm enough to allow the grapes to continue maturing. Additionally, because nighttime temperatures seldom drop low enough to cause significant damage to the vines, the petition states that frost protection measures within the proposed AVA are “nearly non-existent,” whereas frost protection methods are more frequently used in the lower inland areas to the east of the proposed AVA.

Wind Speed: Finally, the petition included data on wind speed averages from 2010 to 2013 within the proposed West Sonoma Coast AVA, the region to the east, and Valley Ford, which is to the south of the proposed AVA within the Petaluma Gap AVA. The petition states that wind speeds are higher within the region to the south of the proposed West Sonoma Coast AVA due to the lower elevations and more open terrain that does not block the wind. Furthermore, wind speeds are higher to the east of the proposed AVA because winds can enter that region from the San Pablo Bay, to the south of the proposed AVA, and blow relatively unhindered up the broad Santa Rosa Plain. The petition states that high wind speeds, such as those found in the regions to the east and south of the proposed West Sonoma Coast AVA, can slow photosynthesis rates in grapevines and, therefore, can also slow fruit development and maturation.

Table 2—Wind Speed
Location (direction from proposed AVA) | Average wind speed (miles per hour): 2010 | Average wind speed (miles per hour): 2011 | Average wind speed (miles per hour): 2012 | Average wind speed (miles per hour): 2013
Valley Ford (south) | 8.0 | 7.4 | 7.6 | 8.5
Windsor (east) | 3.4 | 3.2 | 3.3 | 3.9
Santa Rosa (east) | 3.9 | 4.0 | 4.1 | N/A
Occidental (within) | 1.6 | 1.4 | 1.6 | 1.5

Summary of Distinguishing Features

In summary, the topography, geology, and climate of the proposed West Sonoma Coast AVA distinguish it from the surrounding regions. The proposed AVA has steeper slopes and reaches higher maximum elevations than the regions to the south and east. The proposed AVA also has lower wind speeds than the regions to the south and east. Additionally, in contrast to the region to the east, the proposed AVA has geological features that lack large amounts of alluvium, lower GDD accumulations, cooler daytime temperatures and warmer nighttime temperatures, and lower wind speeds. To the west of the proposed AVA is the Pacific Ocean. The petition did not provide comparison data for the region to the north of the proposed AVA, in Mendocino County, because the term “Sonoma Coast” is not used to describe regions outside of Sonoma County; therefore, per TTB regulations, the region to the north could not be included in an AVA called “West Sonoma Coast.”

Comparison of the Proposed West Sonoma Coast AVA to the Existing Sonoma Coast AVA

Sonoma Coast AVA

T.D. ATF-253, which published in the Federal Register on June 11, 1987 (52 FR 22304), established the Sonoma Coast AVA in Sonoma County, California. The primary feature of the Sonoma Coast AVA, as described in T.D. ATF-253, is a marine-influenced climate that is cooler than the region of Sonoma County east of the Russian River Valley AVA. The proposed West Sonoma Coast AVA shares this characteristic with the larger Sonoma Coast AVA. Therefore, TTB believes that the proposed West Sonoma Coast AVA appears to share enough similarities to remain within the established Sonoma Coast AVA.

However, the proposed West Sonoma Coast AVA does have some characteristics that distinguish it from the Sonoma Coast AVA, which TTB believes would warrant its establishment as a new AVA. For example, the proposed West Sonoma Coast AVA is largely within the “Marine” climate zone, which results in lower GDD accumulations than are found within the eastern portion of the Sonoma Coast AVA, which is in the “Coastal Cool” climate zone.¹¹ Additionally, the proposed AVA is in a mountainous region with steeper slopes and more rugged terrain than the majority of the Sonoma Coast AVA.

¹¹ See Vossen, Paul, Sonoma County Climatic Zones, University of California Cooperative Extension Service, Sonoma County, 1986 (This publication notes the findings of University of California Extension Farm Advisors Robert Sisson and Paul Vossen regarding the climate zones of Sonoma County, California.).

Comparison of the Proposed West Sonoma Coast AVA to the Existing North Coast AVA

The North Coast AVA was established by T.D. ATF-145, published in the Federal Register on September 21, 1983 (48 FR 42973). It includes all or portions of Napa, Sonoma, Mendocino, Lake, Marin, and Solano Counties, California. In the conclusion of the “Geographical Features” section of the preamble, T.D. ATF-145 states that “[d]ue to the enormous size of the North Coast, variations exist in climatic features such as temperature, rainfall, and fog intrusion.”

The proposed West Sonoma Coast AVA shares the basic viticultural feature of the North Coast AVA--the marine influence that moderates growing season temperatures in the area. However, the proposed AVA is much more uniform in its climatic features, namely temperature, soils, and topography than the diverse, multicounty North Coast AVA. In this regard, TTB notes that T.D. ATF-145 specifically states that “approval of this viticultural area does not preclude approval of additional areas, either wholly contained with the North Coast, or partially overlapping the North Coast,” and that “smaller viticultural areas tend to be more uniform in their geographical and climatic characteristics, while very large areas such as the North Coast tend to exhibit generally similar characteristics, in this case the influence of maritime air off of the Pacific Ocean and San Pablo Bay.” Thus, the proposal to establish the West Sonoma Coast AVA is not inconsistent with what was envisioned when the North Coast AVA was established.

Comparison of the Proposed West Sonoma Coast AVA to the Existing Fort Ross-Seaview AVA

The Fort Ross-Seaview AVA was established by T.D. TTB-98, published in the Federal Register on December 14, 2011 (76 FR 77684). The Fort Ross-Seaview AVA is located within both the Sonoma Coast and North Coast AVAs and would be located entirely within the proposed West Sonoma Coast AVA, if that AVA is established. T.D. TTB-98 describes the Fort Ross-Seaview AVA as an area of coastal ridges, mountains, and hills of elevations generally above 920 feet. T.D. TTB-98 states that these higher elevations are typically above the fog line, allowing the AVA to receive more sunlight and warmer temperatures than the lower elevations. Additional information provided by the proposed West Sonoma Coast AVA petitioner shows that there are approximately 12 vineyards within the Fort Ross-Seaview AVA, and they are all planted at elevations above the fog line.

The Fort Ross-Seaview AVA shares the mountainous topography and marine-influenced climate of the proposed West Sonoma Coast AVA. However, although there are elevations within the proposed West Sonoma Coast AVA that are above the fog line, similar to those within the Fort Ross-Seaview AVA, the proposed AVA also includes areas at elevations below the fog line. Some of these lower elevations are sheltered from the heaviest marine fog and, therefore, can support viticulture. Additional information provided by the petitioner shows that there are approximately 15 vineyards within the proposed West Sonoma Coast AVA and outside of the Fort Ross-Seaview AVA, 9 of which are planted at elevations at or below the fog line. Therefore, TTB believes that although the Fort Ross-Seaview AVA shares the general topographic and climatic characteristics of the proposed West Sonoma Coast AVA, the proposed AVA has a broader range of elevations where viticulture takes place that distinguish it from the established AVA and would warrant its establishment as a new AVA.

TTB Determination

TTB concludes that the petition to establish the 141,846-acre West Sonoma Coast AVA merits consideration and public comment, as invited in this notice of proposed rulemaking.

Boundary Description

See the narrative description of the boundary of the petitioned-for AVA in the proposed regulatory text published at the end of this proposed rule.

Maps

The petitioner provided the required maps, and they are listed below in the proposed regulatory text.

Impact on Current Wine Labels

Part 4 of the TTB regulations prohibits any label reference on a wine that indicates or implies an origin other than the wine's true place of origin. For a wine to be labeled with an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See § 4.39(i)(2) of the TTB regulations (27 CFR 4.39(i)(2)) for details.

If TTB establishes this proposed AVA, its name, “West Sonoma Coast,” will be recognized as a name of viticultural significance under § 4.39(i)(3) of the TTB regulations (27 CFR 4.39(i)(3)). The text of the proposed regulation clarifies this point. Consequently, wine bottlers using the name “West Sonoma Coast” in a brand name, including a trademark, or in another label reference as to the origin of the wine, would have to ensure that the product is eligible to use the AVA name as an appellation of origin if this proposed rule is adopted as a final rule. TTB is not proposing “Sonoma Coast,” standing alone, as a term of viticultural significance with regards to the proposed West Sonoma Coast AVA because the term already has viticultural significance pursuant to 27 CFR 9.116 as the name of an established AVA. Accordingly, the proposed part 9 regulatory text set forth in this document specifies only the full name “West Sonoma Coast” as a term of viticultural significance for the proposed AVA for the purposes of part 4 of the TTB regulations.

The approval of the proposed West Sonoma Coast AVA would not affect any existing AVA, and any bottlers using “Sonoma Coast,” “Fort Ross-Seaview,” or “North Coast” as an appellation of origin or in a brand name for wines made from grapes grown within the Sonoma Coast, Fort Ross-Seaview, or North Coast AVAs would not be affected by the establishment of this new AVA. The establishment of the proposed West Sonoma Coast AVA would allow vintners to use “West Sonoma Coast,” “Sonoma Coast,” and “North Coast” as appellations of origin for wines made from grapes grown within the proposed West Sonoma Coast AVA if the wines meet the eligibility requirements for the appellation. Additionally, vintners would be allowed to use “West Sonoma Coast,” as well as “North Coast,” “Sonoma Coast,” and “Fort Ross-Seaview,” as appellations of origin for wines made from grapes grown within the Fort Ross-Seaview AVA if the wines meet the eligibility requirements for the appellation.

Public Participation

Comments Invited

TTB invites comments from interested members of the public on whether it should establish the proposed AVA. TTB is also interested in receiving comments on the sufficiency and accuracy of the name, boundary, soils, climate, and other required information submitted in support of the petition. In addition, given the proposed West Sonoma Coast AVA's location within the existing Sonoma Coast and North Coast AVAs, TTB is interested in comments on whether the evidence submitted in the petition regarding the distinguishing features of the proposed AVA sufficiently differentiates it from the existing established AVAs. TTB is also interested in comments on whether the geographic features of the proposed AVA are so distinguishable from the surrounding Sonoma Coast and North Coast AVA that the proposed West Sonoma Coast AVA should no longer be part of that AVA. Finally, TTB is interested in comments on whether the geographic features of the proposed AVA are so distinguishable from the established Fort Ross-Seaview AVA, which is located within the proposed West Sonoma Coast AVA, that the established AVA should not be part of the proposed AVA. Please provide any available specific information in support of your comments.

Because of the potential impact of the establishment of the proposed West Sonoma Coast AVA on wine labels that include the term “West Sonoma Coast” as discussed above under Impact on Current Wine Labels, TTB is particularly interested in comments regarding whether there will be a conflict between the proposed AVA name and currently used brand names. If a commenter believes that a conflict will arise, the comment should describe the nature of that conflict, including any anticipated negative economic impact that approval of the proposed AVA will have on an existing viticultural enterprise. TTB is also interested in receiving suggestions for ways to avoid conflicts, for example, by adopting a modified or different name for the AVA.

Submitting Comments

You may submit comments on this notice by using one of the following three methods:

• Federal e-Rulemaking Portal: You may send comments via the online comment form posted with this notice within Docket No. TTB-2018-0008 on “Regulations.gov,” the Federal e-rulemaking portal, at https://www.regulations.gov. A direct link to that docket is available under Notice No. 177 on the TTB website at https://www.ttb.gov/wine/wine-rulemaking.shtml. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW, Box 12, Washington, DC 20005.

• Hand Delivery/Courier: You may hand-carry your comments or have them hand-carried to the Alcohol and Tobacco Tax and Trade Bureau, 1310 G Street NW, Suite 400, Washington, DC 20005.

Please submit your comments by the closing date shown above in this notice. Your comments must reference Notice No. 177 and include your name and mailing address. Your comments also must be made in English, be legible, and be written in language acceptable for public disclosure. TTB does not acknowledge receipt of comments, and TTB considers all comments as originals.

In your comment, please clearly state if you are commenting for yourself or on behalf of an association, business, or other entity. If you are commenting on behalf of an entity, your comment must include the entity's name, as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this notice, selected supporting materials, and any online or mailed comments received about this proposal within Docket No. TTB-2018-0008 on the Federal e-rulemaking portal, Regulations.gov, at http://www.regulations.gov. A direct link to that docket is available on the TTB website at https://www.ttb.gov/wine/wine_rulemaking.shtml under Notice No. 177. You may also reach the relevant docket through the Regulations.gov search page at http://www.regulations.gov. For information on how to use Regulations.gov, click on the site's “Help” tab.

All posted comments will display the commenter's name, organization (if any), city, and State, and, in the case of mailed comments, all address information, including email addresses. TTB may omit voluminous attachments or material that the Bureau considers unsuitable for posting.

You may also view copies of this notice, all related petitions, maps and other supporting materials, and any electronic or mailed comments that TTB receives about this proposal by appointment at the TTB Public Reading Room, 1310 G Street NW, Washington, DC 20005. You may also obtain copies at 20 cents per 8.5- x 11-inch page. Please note that TTB is unable to provide copies of USGS maps or other similarly-sized documents that may be included as part of the AVA petition. Contact TTB's Public Reading Room at the above address or by telephone at 202-453-2135 to schedule an appointment or to request copies of comments or other materials.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

Drafting Information

Karen A. Thornton of the Regulations and Rulings Division drafted this notice of proposed rulemaking.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.__ to read as follows:

§ 9.__ West Sonoma Coast.

(a) Name. The name of the viticultural area described in this section is “West Sonoma Coast”. For purposes of part 4 of this chapter, “West Sonoma Coast” is a term of viticultural significance.

(b) Approved maps. The 14 United States Geological Survey (USGS) 1:24,000 scale topographic maps used to determine the boundary of the West Sonoma Coast viticultural area are titled:

(1) McGuire Ridge, California, 1991 (provisional edition);

(2) Stewarts Point, California, 1978;

(3) Annapolis, California, 1977;

(4) Tombs Creek, California, 1978;

(5) Fort Ross, California, 1998;

(6) Cazadero, California, 1998;

(7) Duncans Mills, California, 1979;

(8) Camp Meeker, California, 1995;

(9) Valley Ford, California, 1954; photorevised 1971;

(10) Two Rock, California, 1954; photorevised 1971;

(11) Bodega Head, California, 1972;

(12) Arched Rock, California, 1977;

(13) Plantation, California, 1977; and

(14) Gualala, California, 1998.

(c) Boundary. The West Sonoma Coast viticultural area is located in Sonoma County, California. The boundary of the West Sonoma Coast viticultural area is as described below:

(1) The beginning point is on the McGuire Ridge map at the intersection of the Sonoma County/Mendocino County boundary and the northwest corner of section 29, T11N/R14W. From the beginning point, proceed southeast in a straight line for 0.4 mile to an unnamed hilltop with a marked elevation of 820 feet in section 29, T11N/R14W; then

(2) Proceed southeast in a straight line for 1.4 miles to the intersection of the eastern boundary of section 32 and the 800-foot elevation contour, T11/R14W; then

(3) Proceed southeast along the 800-foot elevation contour for 3.1 miles, crossing onto the Stewarts Point map, to its intersection with the northern boundary of section 3, T10N/R14W; then

(4) Proceed east along the northern boundary of section 3 and then along the northern boundary of section 2 for a total of 0.8 mile to the intersection of the northern boundary of section 2 and the 600-foot elevation contour, T10N, R14W; then

(5) Proceed generally southeast along the 600-foot elevation contour for 3.3 miles, crossing onto the Annapolis map, to its intersection with the northern boundary of section 12, T10N/R14W; then

(6) Proceed east along the northern boundary of section 12, T10N/R14W, for 0.1 mile to its intersection with the 600-foot elevation contour; then

(7) Proceed north then generally east along the meandering 600-foot elevation contour for 4.8 miles to its sixth intersection with the northern boundary of section 7, T10N/R13W; then

(8) Proceed southeast in a straight line for 0.2 mile to the intersection of an unnamed light-duty road known locally as Kelly Road and an unnamed, unimproved road with a marked elevation of 725 feet, known locally as Oak Hill LO Road, in section 8, T10N/R13W; then

(9) Proceed south in a straight line for 0.6 mile to the intersection of Soda Springs Road and the eastern boundary of section 7, T10N/R13W; then

(10) Proceed in a straight line southeast for 1.6 miles to the intersection of the eastern boundary of section 17, T10N/R13W, and the 800-foot elevation contour; then

(11) Proceed southeast along the 800-foot elevation contour for 2.6 miles to its intersection with an unnamed, unimproved road near the 862-foot benchmark in section 21, T10N/R13W; then

(12) Proceed southeast in a straight line for 0.2 mile to the intersection of the 600-foot elevation contour and an intermittent stream in section 28, T10N/R13W; then

(13) Proceed south along the 600-foot elevation contour for 1.7 miles to its intersection with the eastern boundary of section 33, T10N/R13W; then

(14) Proceed southeast in a straight line for 0.5 mile to the intersection of an unnamed light-duty road known locally as Skaggs Springs Road and an unnamed, unimproved road known locally as Skyline Road, near the Mendosoma Fire Station in section 34, T10N/R13W; then

(15) Proceed southeast along the unnamed, unimproved road (Skyline Road) for total of 5.9 miles as it follows Skyline Ridge and crosses onto the Tombs Creek map, back onto the Annapolis map, then back on to the Tombs Creek map, to the intersection of the road with the 1,200-foot elevation contour in section 13, T9N/R13W; then

(16) Proceed southeast along the 1,200-foot elevation contour for 0.6 mile to the intersection with Allen Creek in section 18, T9N/R12W; then

(17) Proceed north along Allen Creek for 0.2 mile to the intersection with the 920-foot elevation contour in section 18, T9N/R12W; then

(18) Proceed east and then southeast along the meandering 920-foot elevation contour, crossing onto the Fort Ross map, then onto the Tombs Creek map, and then back onto the Fort Ross map, to the intersection of the elevation contour with Jim Creek in section 21, T9N/R12W; then

(19) Proceed southeast along Jim Creek for 0.7 mile to the intersection of the creek with the northern boundary of section 27, T9N, R12W, then

(20) Proceed east along the northern boundary of section 27 for 0.5 mile to the northeast corner of section 27; then

(21) Proceed south along the eastern boundaries of sections 27, 34, 3, 7, 15, and 22 for 5.1 miles to the intersection of the eastern boundary of section 22 and Fort Ross Road, T8N/R12W; then

(22) Proceed east along Fort Ross Road for approximately 262 feet to the intersection of the road with the middle branch of Russian Gulch Creek in section 23, T8N/R12W; then

(23) Proceed south along the middle branch of Russian Gulch Creek for 1.2 miles to the intersection with the 920-foot elevation contour in section 26, T8N/R12W; then

(24) Proceed southeast in a straight line east for 2 miles, crossing onto the Cazadero map, to the summit of Pole Mountain in section 30, T8N/R11W; then

(25) Proceed southeast in a straight line for 4.7 miles, crossing onto the Duncans Mills map, to the confluence of Austin Creek and the Russian River, T7N/R11W; then

(26) Proceed generally east (upstream) along the Russian River for 3.1 miles to the intersection of the Russian River and the Bohemian Highway in section 7, T7N/R10W; then

(27) Proceed southeast along the Bohemian Highway for a total of 10.1 miles, crossing onto the Camp Meeker map and through the towns of Camp Meeker and Occidental, then crossing onto the Valley Ford map and through the town of Freestone, to the intersection of the Bohemian Highway and an unnamed medium-duty road known locally as Bodega Road near benchmark (BM) 214 in section 12, T6N/R10W; then

(28) Proceed northeast along Bodega Road for 0.9 mile, crossing onto the Camp Meeker map, to the intersection of the road with an unnamed light-duty road known locally as Barnett Valley Road north of the marked 486-foot elevation point in the Cañada de Jonive land grant, T6N/R10W; then

(29) Proceed south then east along Barnett Valley Road for 2.2 miles, crossing onto the Valley Ford map and then onto the Two Rock map, to the intersection of Bennett Valley Road with Burnside Road in section 17, T6N/R9W; then

(30) Proceed southeast along Burnside Road for 3.2 miles to its intersection with the 400-foot elevation contour just north of an unnamed light duty road known locally as Bloomfield Road in the Cañada de Pogolimi land grant, T5N/R9W; then

(31) Proceed west along the 400-foot elevation contour for 6.7 miles, crossing onto the Valley Ford map, to the intersection of the elevation contour with an unimproved road, Cañada de Pogolimi land grant, T6N/R9W; then

(32) Proceed northwest then southwest along the unnamed, unimproved road for 0.9 mile to its terminus, Cañada de Pogolimi land grant, T6N/R9W; then

(33) Proceed northwest in a straight line for 0.1 mile to the marked 448-foot summit of an unnamed hilltop, Cañada de Pogolimi land grant, T6N/R10W; then

(34) Proceed northwest in a straight line for 0.6 mile to the 61-foot benchmark along an unnamed secondary highway known locally as Freestone Valley Ford Road, Cañada de Pogolimi land grant, T6N/R10W; then

(35) Proceed west-northwest in a straight line for 0.8 mile to VABM 724 in the Estero Americano land grant, T6N/R10W; then

(36) Proceed west in a straight line for 1.0 mile to the intersection of Salmon Creek and an intermittent stream, Estero Americano land grant, T6N/R10W; then

(37) Proceed west (downstream) along Salmon Creek for 9.6 miles, crossing onto the Bodega Head map, to the mouth of the creek at the Pacific Ocean; then

(38) Proceed north along the Pacific coastline for 51.4 miles, crossing over the Duncan Mills, Arched Rock, Fort Ross, Plantation, and Stewarts Point maps and onto the Gualala map to the intersection of the coastline with the Sonoma County/Mendocino County line; then

(39) Proceed east along the Sonoma County/Mendocino County line for 5.6 miles, crossing onto the McGuire Ridge map, and returning to the beginning point, T11N, R14W.

Signed: July 27, 2018.
John J. Manfreda,
Administrator.
Approved: November 13, 2018.
Timothy E. Skud,
Deputy Assistant Secretary (Tax, Trade, and Tariff Policy).

Editorial note: This document was received for publication by the Office of the Federal Register on November 29, 2018.

[FR Doc. 2018-26321 Filed 12-4-18; 8:45 am]

BILLING CODE 4810-31-P